DEPARTMENT OF TRANSPORTATION

Coast Guard

33 CFR Part 117

[CGD05-01-009]

RIN 2115-AE47

Drawbridge Operation Regulations; Potomac River, Between Alexandria, VA and Oxon Hill, MD

AGENCY: Coast Guard, DOT.

ACTION: Notice of temporary deviation from regulations.

SUMMARY: The Commander, Fifth Coast Guard District, has approved a temporary deviation from the regulations governing the operation of the Woodrow Wilson Memorial Drawbridge, across the Potomac River, mile 103.8, between the City of Alexandria, Virginia and Oxon Hill, Maryland, to allow the bridge owners to conduct needed structural work. The work will be done on four consecutive weekends, April 20-21, 2001, April 27-29, 2001, May 4-6, 2001, and May 11-13, 2001. The bridge may remain closed to vessel traffic during the first weekend from 6 p.m. Friday to 6 p.m. Saturday. On the last three weekends, the bridge may remain closed to vessel traffic from 6 p.m. Friday to 6 p.m. Sunday.

DATES: This deviation is effective from April 20, 2001 to May 13, 2001.

FOR FURTHER INFORMATION CONTACT: Ann B. Deaton, Bridge Administrator, Fifth Coast Guard District, at (757) 398-6222.

SUPPLEMENTARY INFORMATION: On March 1, 2001 McLean Contracting Company, contractors for the Virginia Department of Transportation, requested a temporary deviation from the current operating schedule of the Woodrow Wilson Memorial Drawbridge. Presently, the draw is required to operate under the operating regulations in 33 CFR 117.255. To facilitate the replacement of the bridge decks, McLean Contracting Company will need to leave the drawspan in the closed position. The counterweights will be removed prior to the repair work at the beginning of each weekend and reinstalled at the end of the weekend. The removal of the counterweights is necessary for the contractor to facilitate the replacement of the decks. As a result of the removal of the counterweights, the drawspan will not be able to open for any vessel traffic during the weekend work; however, at the end of the weekend when the counterweights have been reinstalled, the bridge will be back to its normal operating schedule until the next scheduled weekend of work.

In accordance with 33 CFR 117.35, the District Commander granted a temporary deviation from the governing regulations in a letter dated March 23, 2001. The Coast Guard has informed the known commercial users of the waterway of the bridge closure so that these vessels can arrange their transits to minimize any impact caused by the temporary deviation.

The temporary deviation allows the Woodrow Wilson Memorial Drawbridge across the Potomac River, mile 103.8, between the City of Alexandria, Virginia and Oxon Hill, Maryland to remain closed for four consecutive weekends beginning April 20-21, 2001, April 27-29, 2001, May 4-6, 2001 and May 11-13, 2001. The bridge will remain closed during the first weekend from 6 p.m. Friday to 6 p.m. Saturday. During the last three weekends, the bridge will remain closed from 6 p.m. Friday to 6 p.m. Sunday.

Dated: March 26, 2001.
J.E. Shkor,
Vice Admiral, U.S. Coast Guard, Commander, Fifth Coast Guard District.

[FR Doc. 01-8187 Filed 4-3-01; 8:45 am]

BILLING CODE 4910-15-U